DEPARTMENT OF HEALTH AND HUMAN SERVICES

Centers for Disease Control and Prevention

Advisory Council for the Elimination of Tuberculosis Meeting (ACET)

In accordance with section 10(a)(2) of the Federal Advisory Committee Act (Pub. L. 92-463), the Centers for Disease Control and Prevention (CDC), announces the following meeting of the aforementioned committee:

Times and Dates:

8:30 a.m.-5:00 p.m., EST, December 15, 2015

8:30 a.m.-12:00 p.m., EST, December 16, 2015

Place: Corporate Square, Corporate Boulevard, Building 8, 1st Floor Conference Room, Atlanta, Georgia 30329, telephone (404) 639-8317.

This meeting is also accessible by Webinar:

December 15, 2015

For Participants:

URL: https://www.mymeetings.com/nc/join/

Conference number: PW1126536

Audience passcode: 6816256

Participants can join the event directly at:

https://www.mymeetings.com/nc/join.php?i=PW1126536&p=6816256&t=c

USA Toll-free +1 (888) 947-9021, Participant code: 6816256

December 16, 2015

For Participants:

URL: https://www.mymeetings.com/nc/join/

Conference number: PW5803596

Audience passcode: 6816256

Participants can join the event directly at:

https://www.mymeetings.com/nc/join.php?i=PW5803596&p=6816256&t=c

USA Toll-free +1 (888) 947-9021, Participant code: 6816256

Status: Open to the public, limited only by the space available. The meeting room accommodates approximately 100 people.

Purpose: This Council advises and makes recommendations to the Secretary of Health and Human Services, the Assistant Secretary for Health, and the Director, CDC, regarding the elimination of tuberculosis. Specifically, the Council makes recommendations regarding policies, strategies, objectives, and priorities; addresses the development and application of new technologies; and reviews the extent to which progress has been made toward eliminating tuberculosis.

Matters for Discussion: Agenda items include the following topics: (1) Overview of Biomedical Advanced Research and Development Authority (BARDA); (2) Tuberculosis in Congregate Settings; (3) Updates from Workgroups; and (4) other tuberculosis-related issues.

Agenda items are subject to change as priorities dictate.

Contact Person for More Information: Margie Scott-Cseh, Centers for Disease Control and Prevention, 1600 Clifton Road NE., M/S E-07, Atlanta, Georgia 30333, telephone (404) 639-8317 Email: zkr7@cdc.gov.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention.

[FR Doc. 2015-29260 Filed 11-16-15; 8:45 am]

BILLING CODE 4163-18-P